DEPARTMENT OF ENERGY

Federal Energy Regulatory Commission

[Project No. 3442-029]

City of Nashua, New Hampshire; Notice of Application Tendered for Filing With the Commission and Soliciting Additional Study Requests and Establishing Procedural Schedule for Relicensing and a Deadline for Submission of Final Amendments

Take notice that the following hydroelectric application has been filed with the Commission and is available for public inspection.

a. Type of Application: Subsequent License.

b. Project No.: 3442-029.

c. Date Filed: July 30, 2021.

d. Applicant: City of Nashua (the City).

e. Name of Project: Mine Falls Hydroelectric Project.

f. Location: The existing project is located on the Nashua River in Hillsborough County, New Hampshire. The project does not affect federal lands.

g. Filed Pursuant to: Federal Power Act 16 U.S.C. 791(a)-825(r).

h. Applicant Contact: James W. Donchess, Mayor, City of Nashua, 229 Main Street, P.O. Box 2019, Nashua, NH 03060; Telephone (603) 589-3260.

i. FERC Contact: Khatoon Melick, (202) 502-8433 or khatoon.melick@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 28, 2021. The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Mine Falls Hydroelectric Project (P-3442-029).

m. The application is not ready for environmental analysis at this time.

n. Project Description: The existing Mine Falls Project consists of: (1) A 242-acre impoundment with a normal storage volume of 1,970 acre-feet and a normal headpond elevation of 158.76 ft (NAVD 88); (2) a rock filled concrete cap, variable in height dam with an approximately 132-foot-long spillway at a permanent crest elevation of 154.66 feet, and nominal 4.0-foot-high wooden flashboards maintaining a normal headpond elevation of 158.76 feet; (3) a 22-foot-wide and 170-foot-long reinforced concrete power canal located between the right bank of the Nashua river and the single flood sluice gate; (4) two 12.5-foot-long wooden stoplog bays located immediately upstream of the intake to the right of the concrete capped spillway (viewed facing downstream) with a 10-foot-wide gate and a short spillway section above the gate; (5) a 40-foot-wide, 20-foot-high intake structure with steel trashrack with two square-to-round transition openings that feed the two penstocks that terminate at the two turbines; (6) two 64-foot-long, 104-inch-diameter steel penstocks between the intake and turbine units; (7) a 44-foot-long, 44-foot-wide multi-level reinforced concrete powerhouse containing two 1,500 kilowatt turbine-generator units; (8) an approximately 22-foot-wide, 1,100-foot-long tailrace that is a channel cut into the Nashua river bedrock downstream of the powerhouse that returns water back into the Nashua river; (9) a 278-foot-long bypass reach extending from the spillway crest and stoplog bays to the downstream of the powerhouse at the tailrace, bypassing 20 cubic feet per second (cfs) of water for environmental flows; (10) an upstream fish passage; (11) a 610-foot-long, 34.5-kilovolt underground transmission line connects the generator transformer to the interconnect point; and (12) appurtenant facilities. The estimated gross head of the project is 38 feet. The powerplant has a maximum nameplate capacity of 3 MW. The project generates an annual average of 12,563 megawatt-hours.

The City proposes to continue to operate the project in a run-of-river mode with no storage or flood control capacity. The project operates within a flow range of 180 cfs (150 cfs minimum hydraulic capacity to start a single turbine, plus 20 cfs minimum bypass release at the dam and an additional 10 cfs flow routed through the Mill Pond gatehouse to the Mill Pond and canal) and 1,100 cfs (maximum hydraulic capacity of the plant—two turbines combined) or a river flow of 1,130 cfs. Any flow above the capacity of the turbines plus minimum bypass flow and Mill pond diversion is spilled over the dam spillway and through the overflow section of the flood sluice gate.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3442). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule: The application will be processed according to the following preliminary Hydro Licensing Schedule. Revisions to the schedule may be made as appropriate.

Milestone | Target date
Issue Deficiency Letter | September 2021.
Request Additional Information | September 2021.
Issue Notice of Acceptance | January 2022.
Issue Scoping Document 1 for Comments | January 2022.
Comments on Scoping Document 1 Due | March 2022.
Issue Scoping Document 2 | April 2022.
Issue Notice of Ready for Environmental Analysis | April 2022.

q. Final amendments to the application must be filed with the Commission no later than 30 days from the issuance date of the notice of ready for environmental analysis.

Dated: August 12, 2021.
Kimberly D. Bose,
Secretary.

[FR Doc. 2021-17700 Filed 8-17-21; 8:45 am]

BILLING CODE 6717-01-P